DEPARTMENT OF ENERGY

Federal Energy Regulatory Commission

Combined Notice of Filings #1

Take notice that the Commission received the following electric rate filings:

Docket Numbers: ER10-2794-009; ER10-2849-008; ER11-2028-009; ER12-1825-007; ER11-3642-008.

Applicants: EDF Trading North America, LLC, EDF Industrial Power Services (NY), LLC, EDF Industrial Power Services (IL), LLC, EDF Industrial Power Services (CA), LLC, Tanner Street Generation, LLC.

Description: Notice of Non-Material Change in Status of EDF Trading North America, LLC, et al.

Filed Date: 12/3/12.

Accession Number: 20121203-5192.

Comments Due: 5 p.m. ET 12/24/12.

Docket Numbers: ER11-3576-006; ER11-3401-007.

Applicants: Golden Spread Electric Cooperative, Inc., Golden Spread Panhandle Wind Ranch, LLC.

Description: Notice of Non-Material Change in Status of Golden Spread Electric Cooperative, Inc. and Golden Spread Panhandle Wind Ranch, LLC.

Filed Date: 12/3/12.

Accession Number: 20121203-5191.

Comments Due: 5 p.m. ET 12/24/12.

Docket Numbers: ER13-281-000.

Applicants: Star Energy Partners LLC.

Description: Supplemental Information of Star Energy Partners.

Filed Date: 11/23/12.

Accession Number: 20121123-5024.

Comments Due: 5 p.m. ET 12/10/12.

Docket Numbers: ER13-504-000.

Applicants: Electricity NH, LLC.

Description: Electricity NH, LLC submits tariff filing per 35.1: Electricity New Hampshire FERC Tariff to be effective 12/4/2012.

Filed Date: 12/3/12.

Accession Number: 20121203-5167.

Comments Due: 5 p.m. ET 12/24/12.

Docket Numbers: ER13-505-000.

Applicants: Tucson Electric Power Company.

Description: 2nd Amended and Restated Participation Agreement Rev to be effective 4/17/2012.

Filed Date: 12/4/12.

Accession Number: 20121204-5000.

Comments Due: 5 p.m. ET 12/26/12.

Docket Numbers: ER13-506-000.

Applicants: Midwest Independent Transmission System Operator, Inc., Montana-Dakota Utilities Co., a Division of MDU Resources Group, Inc.

Description: SA 2493 MDU-Merricourt Power Partners FSA to be effective 11/30/2012.

Filed Date: 12/4/12.

Accession Number: 20121204-5025.

Comments Due: 5 p.m. ET 12/26/12.

Docket Numbers: ER13-507-000.

Applicants: Duke Energy Carolinas, LLC.

Description: Revised Rate Schedule No. 336 to be effective 1/1/2013.

Filed Date: 12/4/12.

Accession Number: 20121204-5026.

Comments Due: 5 p.m. ET 12/26/12.

Docket Numbers: ER13-508-000.

Applicants: Carolina Power & Light Company.

Description: Rate Schedule No. 196 of Carolina Power and Light Company to be effective 12/1/2012.

Filed Date: 12/4/12.

Accession Number: 20121204-5035.

Comments Due: 5 p.m. ET 12/26/12.

Docket Numbers: ER13-509-000.

Applicants: Carolina Power & Light Company.

Description: Carolina Power & Light Company submits Notice of Cancellation of Rate Schedule No. 96 with Virginia Electric and Power Company.

Filed Date: 12/4/12.

Accession Number: 20121204-5045.

Comments Due: 5 p.m. ET 12/26/12.

Docket Numbers: ER13-510-000.

Applicants: ISO New England Inc.

Description: ISO New England Inc. submits tariff filing per 35.13(a)(2)(iii: Corrections to Conform Tariff Language—Appendix A to be effective 4/17/2012.

Filed Date: 12/4/12.

Accession Number: 20121204-5046.

Comments Due: 5 p.m. ET 12/26/12.

Docket Numbers: ER13-511-000.

Applicants: Northern States Power Company, a Wisconsin corporation.

Description: Northern States Power Company, a Wisconsin Corporation submits tariff filing per 35.13(a)(2)(iii: 2012_12_4_NSPW DPC ACIF-Chief, Great North-135 to be effective 9/17/2012.

Filed Date: 12/4/12.

Accession Number: 20121204-5048.

Comments Due: 5 p.m. ET 12/26/12.

Docket Numbers: ER13-512-000.

Applicants: Wabash Valley Power Association, Inc.

Description: Wabash Valley Power Association, Inc. submits tariff filing per 35.13(a)(2)(iii: Amendment of Fulton County REMC Rate Schedule to be effective 2/4/2013.

Filed Date: 12/4/12.

Accession Number: 20121204-5051.

Comments Due: 5 p.m. ET 12/26/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2012.
Nathaniel J. Davis, Sr.,
Deputy Secretary.

[FR Doc. 2012-29831 Filed 12-10-12; 8:45 am]

BILLING CODE 6717-01-P